DEPARTMENT OF TRANSPORTATION

14 CFR Part 71

[Airspace Docket No. 02-AGL-12]

Modification of Class E Airspace; Zanesville, OH; Correction

AGENCY: Federal Aviation Administration (FAA), DOT.

ACTION: Notice of proposed rulemaking; correction.

SUMMARY: This action corrects the assigned docket number and two errors under “addresses” “comments invited”, contained in a NPRM that was published in the Federal Register on Thursday, June 13, 2002 (67 FR 40627). The NPRM proposed to modify Class E Airspace at Zanesville, OH.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register Document 02-14985 published on Thursday, June 13, 2002 (67 FR 40627), proposed to modify Class E Airspace at Zanesville, OH. An incorrect docket number was assigned, and an incorrect docket number was referred to under “addresses” and “comments invited”. This action corrects these errors.

Accordingly, pursuant to the authority delegated to me, the assigned docket number, and the errors under “addresses” and “comments invited” for the Class E airspace Zanesville, OH, as published in the Federal Register Thursday, June 13, 2002 (67 FR 40627), (FR Doc. 02-14985), are corrected as follows:

1. on page 40627, Column 1, in the heading under “4 CFR Part 71”, correct “[Airspace Docket No. 01-AGL-21]” to read “[Airspace Docket No. 02-AGL-12]”.

2. On page 40627, Column 1, under “addresses”, correct “Rules Docket No. 02-AGL-04” to read “Rules Docket No. 02-AGL-12”. § 71.1 [Corrected]

3. On page 40628, Column 2, Line 16, correct “01-AGL-21” to read “02-AGL-12”

Issued in Des Plaines, Illinois on July 22, 2002.
Nancy B. Shelton,
Manager, Air Traffic Division, Great Lakes Region.

[FR Doc. 02-20895 Filed 8-15-02; 8:45 am]

BILLING CODE 4910-13-M